SMALL BUSINESS ADMINISTRATION

[Disaster Declaration #16553 and #16554; ARKANSAS Disaster Number AR-00115]

Presidential Declaration Amendment of a Major Disaster for Public Assistance Only for the State of Arkansas

AGENCY: U.S. Small Business Administration.

ACTION: Amendment 1.

SUMMARY: This is an amendment of the Presidential declaration of a major disaster for Public Assistance Only for the State of Arkansas (FEMA-4556-DR), dated 07/10/2020.

Incident: Severe Storms and Straight-line Winds.

Incident Period: 04/12/2020.

DATES: Issued on 08/21/2020.

Physical Loan Application Deadline Date: 09/08/2020.

Economic Injury (EIDL) Loan Application Deadline Date: 04/12/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Arkansas, dated 07/10/2020, is hereby amended to include the following areas as adversely affected by the disaster.

Primary Counties: Monroe, Phillips.

All other information in the original declaration remains unchanged.

(Catalog of Federal Domestic Assistance Number 59008)

Cynthia Pitts,
Acting Associate Administrator for Disaster Assistance.

[FR Doc. 2020-18946 Filed 8-27-20; 8:45 am]

BILLING CODE 8026-03-P